FEDERAL COMMUNICATIONS COMMISSION

[DA 04-289]

Wireless Telecommunications Bureau Announces Final Phase of the Private Land Mobile Radio Station Construction and Operational Status Audit

AGENCY: Federal Communications Commission.

ACTION: Notice.

SUMMARY: This document announces the final phase of the Private Land Mobile Radio (PLMR) Spectrum Audit. At the end of this phase, call signs for which licensees have failed to respond to the audit will be deemed to have cancelled automatically.

DATES: Response due on or before March 31, 2004.

ADDRESSES: All responses should be mailed to FCC, PLMR Spectrum Audit Responses, 1270 Fairfield Road, Gettysburg, PA 17325, or faxed to (717) 338-2696.

FOR FURTHER INFORMATION CONTACT: Kelly Lawver, Public Safety & Critical Infrastructure Division, Wireless Telecommunications Bureau, (717) 338-2605.

SUPPLEMENTARY INFORMATION: This is a summary of a Public Notice released on February 9, 2004.

1. The Bureau has been conducting an audit of the construction and operational status of certain Private Land Mobile Radio (PLMR) stations. The audit includes most PLMR Stations (radio services IG, YG, PW, YW) licensed on frequencies below 512 MHz that are subject to frequency coordination and rule-based construction and operational requirements. The Federal Communications Commission's (FCC) part 90 rules for the PLMR facilities require construction within a specified time and require that stations remain operational in order for the FCC license to remain valid. Specifically, when a license fails to construct its authorized PLMR facilities within the requisite construction period or discontinues operation for a period of one year, the license cancels automatically and the licensee is required to notify the FCC.

2. The Bureau initially sent audit letters to licensees over a six month period from August 2001, to January 2002. More than 267,000 letters involving approximately 420,000 call signs were sent. The initial mailing generated a 73 percent response rate. In order to generate a higher response rate, a second audit mailing took place in April and May of 2002. As a result of this mailing, the response rate increased to 88 percent. To date, there are approximately 14,000 call signs for which the FCC has not received a response. Because of the number of call signs in this category, we are not listing them in an attachment to this Public Notice. The call signs, however, are listed on the FCC's audit web page.

3. To assist licensees and industry in determining which call signs have outstanding audit responses, there are several tools available on the FCC's audit web page at http://wireless.fcc.gov/licensing/audits/plmrs/index.html. Information regarding particular call signs may be obtained by querying the audit database under “Audit Search”. Listings of call signs for which the FCC has no record of a response are available under “Database Downloads”. These files are separated by radio service and state/territory. In addition, if a licensee determines that it needs to respond to the audit, a response form may be downloaded from this page. The completed form should be faxed to: (717) 338-2696 or mailed to: FCC, PLMR Spectrum Audit Responses, 1270 Fairfield Road, Gettysburg, PA 17325.

4. On February 27, 2004, the WTB will begin sending out a third and final letter to those licensees who have not responded to the audit. Licensees will be given until March 31, 2004, to provide a response. The FCC will presume from a failure to respond to this inquiry and previous inquiries that the licensee has either failed to construct its stations within the requisite time period or has discontinued operation of its station for a period of one year. Consequently, if a licensee does not provide a response by March 31, 2004, the stations will be deemed to have cancelled automatically. The FCC's licensing database will be updated to reflect that the licenses are no longer valid and the frequencies will be made available for relicensing.

5. For additional information about PLMR Spectrum audit, please call 1-888-225-5322 and select option 2 or visit the WTB Web site at http://wireless.fcc.gov/licensing/audits/plmrs/index.html.

Federal Communications Commission.
D'wana R. Terry,
Chief, Public Safety and Critical Infrastructure Division, WTB.

[FR Doc. 04-3971 Filed 2-23-04; 8:45 am]

BILLING CODE 6712-01-P